DEPARTMENT OF COMMERCE

International Trade Administration

[A-201-820]

Fresh Tomatoes From Mexico: Final Results of the Full Sunset Review of the Suspended Antidumping Duty Investigation

AGENCY: Enforcement and Compliance, International Trade Administration, Department of Commerce.

SUMMARY: On February 1, 2018, the Department of Commerce (Commerce) initiated the fourth sunset review of the suspended antidumping duty investigation on fresh tomatoes from Mexico. Commerce finds that termination of the suspended antidumping duty investigation on fresh tomatoes from Mexico would be likely to lead to continuation or recurrence of dumping at the levels indicated in the “Final Results of Review” section of this notice.

DATES: Applicable December 27, 2018.

FOR FURTHER INFORMATION CONTACT: Sally C. Gannon or David Cordell, Enforcement and Compliance, International Trade Administration, U.S. Department of Commerce, 1401 Constitution Avenue NW, Washington, DC 20230; telephone: (202) 482-0162 or (202) 482-0408, respectively.

SUPPLEMENTARY INFORMATION:

Background

On August 27, 2018, Commerce preliminarily determined that termination of the suspended antidumping duty investigation on fresh tomatoes from Mexico would likely lead to continuation or recurrence of dumping.¹ On September 26, 2018, the Confederación de Asociaciones Agrícolas del Estado de Sinaloa, A.C., Consejo Agrícola de Baja California, A.C., Asociación Mexicana de Horticultura Protegida, A.C., Asociación de Productores de Hortalizas del Yaqui y Mayo and Sistema Producto Tomate (collectively, the Mexican growers) filed their case brief, and requested a hearing on the matter; ² NS Brands, Ltd., and its affiliates (collectively, NatureSweet) also filed their case brief on September 26, 2018.³ On September 27, 2018, the Florida Tomato Exchange (the FTE) requested a one-week extension of the October 1, 2018 deadline to file its rebuttal brief; ⁴ on September 28, 2018, Commerce granted the extension and set the deadline for submission of rebuttal briefs as October 9, 2018, to account for the federal holiday on October 8, 2018.⁵ The FTE timely submitted its rebuttal brief on October 9, 2018.⁶ Commerce scheduled the public hearing on the matter for, and the public hearing was held on, October 16, 2018. On November 14, 2018, Commerce requested additional information from the FTE regarding information that was not provided in its intent to participate submittal.⁷ The FTE provided its timely response to the request for further information on November 21, 2018.⁸ The Mexican growers timely provided rebuttal comments on November 26, 2018.⁹ The FTE submitted a timely sur-rebuttal on November 29, 2018.¹⁰

¹ See Fresh Tomatoes from Mexico: Preliminary Results of the Five-Year Sunset Review of the 2013 Suspension Agreement on Fresh Tomatoes, 83 FR 43642 (August 27, 2018).

² See Mexican Growers' Case Brief, “Sunset Review of the 2013 Suspension Agreement on Fresh Tomatoes from Mexico,” (September 26, 2018) at 1.

³ See NatureSweet's Case Brief, “Case Brief of NS Brands, LTD.” (September 26, 2018).

⁴ See Letter to Wilbur Ross, Secretary of Commerce, from the Florida Tomato Exchange, “Fresh Tomatoes from Mexico: Rebuttal Brief Extension Request” (September 27, 2018).

⁵ See Memorandum, “2018 Sunset Review of the 2013 Suspension Agreement on Fresh Tomatoes from Mexico; Extension for Rebuttal Briefs: Correction of Rebuttal Deadline” (September 28, 2018).

⁶ See FTE's Rebuttal Brief, “Rebuttal Brief of the Florida Tomato Exchange” (October 9, 2018).

⁷ See Letter to Wilbur Ross, Secretary of Commerce, from the Florida Tomato Exchange, “Fresh Tomatoes from Mexico: Notice of Intent to Participate” (February 15, 2018).

⁸ See Letter to Wilbur Ross, Secretary of Commerce, from the Florida Tomato Exchange, “Fresh Tomatoes from Mexico: Response to Request for Additional Information” (November 21, 2018).

⁹ See Letter to Wilbur Ross, Secretary of Commerce, from the Confederación de Asociaciones Agrícolas del Estado de Sinaloa, A.C., et al., “Sunset Review of the 2013 Suspension Agreement on Fresh Tomatoes from Mexico” (November 26, 2018).

¹⁰ See Letter to Wilbur Ross, Secretary of Commerce, from the Florida Tomato Exchange, “Fresh Tomatoes from Mexico: Reply to CAADES' November 26, 2018 Comments” (November 29, 2018).

Scope of the Suspension Agreement

For a full description of the scope of the Agreement, please refer to the accompanying Issues and Decision Memorandum.

Analysis of Comments Received

All issues raised for the final results of this sunset review are addressed in the Issues and Decision Memorandum.¹¹ The Issues and Decision Memorandum is hereby adopted by this notice. The issues discussed in the Issues and Decision Memorandum include: The adequacy of the FTE's substantive response, the likelihood of recurrence of dumping, and the margin to be reported to the International Trade Commission. Parties can find a complete discussion of all the issues raised in this sunset review and the corresponding recommendations in this public memorandum, which is on file electronically via Enforcement and Compliance's Antidumping and Countervailing Duty Centralized Electronic Service System (ACCESS). ACCESS is available to registered uses at http://access.trade.gov and in the Central Records Unit, Room B8024 of the main Department of Commerce building. In addition, a complete version of the Issues and Decision Memorandum can be accessed directly on the internet at http://enforcement.trade.gov/frn/. The signed Issues and Decision Memorandum and the electronic version of the Issues and Decision Memorandum are identical in content.

¹¹ See Memorandum to P. Lee Smith, Deputy Assistant Secretary for Policy and Negotiations, re “Issues and Decision Memorandum for the Final Results of the Full Sunset Review of the Suspended Investigation of Tomatoes from Mexico,” dated concurrently with and adopted by this notice.

Final Results of Review

Pursuant to section 752(c) of the Act, we determine that the termination of the suspended investigation on fresh tomatoes from Mexico would likely lead to continuation or recurrence of dumping at weighted-average margins up to 188.14 percent.

Notification to Interested Parties

This notice also serves as the only reminder to parties subject to an administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

Commerce is issuing and publishing the results and notice in accordance with sections 751(c), 752(c), and 777(i)(1) of the Act and 19 CFR 351.218(f)(1).

Dated: December 18, 2018.
P. Lee Smith,
Deputy Assistant Secretary for Policy and Negotiations, Enforcement and Compliance.

[FR Doc. 2018-28063 Filed 12-26-18; 8:45 am]

BILLING CODE 3510-DS-P